FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than April 1, 2020.

A. Federal Reserve Bank of San Francisco (Gerald C. Tsai, Director, Applications and Enforcement) 101 Market Street, San Francisco, California 94105-1579:

1. The Rahman Family Trust Dated August 7, 1997, Altadena, California, Yahia Abdul Rahman and Madga Rahman, Trustees, both of Altadena, California; American Finance House Lariba, Whittier, California; Maie St. John, Los Angeles, California; Richard St. John, Los Angeles, California; and Marwa Abdul Rahman, Altadena, California; to retain voting shares of Greater Pacific Bancshares, and thereby indirectly retain shares of Bank of Whittier, National Association, both of Whittier, California.

2. Sang Young Lee and Chun Young Lee, both of La Canada, California, and Lee's Gold & Diamond Import, Inc., Los Angeles, California; to acquire the voting shares of PCB Bancorp and thereby indirectly acquire shares of Pacific City Bank, both of Los Angeles, California.

Board of Governors of the Federal Reserve System, March 12, 2020.
Yao-Chin Chao,
Assistant Secretary of the Board.

[FR Doc. 2020-05535 Filed 3-17-20; 8:45 am]

BILLING CODE P